INTERNATIONAL TRADE COMMISSION

[Investigation Nos. 731-TA-1435-1436, and 1439 (Final)]

Acetone from Belgium, Korea and South Africa; Determinations

On the basis of the record ¹ developed in the subject investigations, the United States International Trade Commission (“Commission”) determines, pursuant to the Tariff Act of 1930 (“the Act”), that an industry in the United States is materially injured by reason of imports of acetone from Belgium, Korea and South Africa, provided for in subheadings 2914.11.10 and 2914.11.50 of the Harmonized Tariff Schedule of the United States, that have been found by the U.S. Department of Commerce (“Commerce”) to be sold in the United States at less than fair value (“LTFV”).²

¹ The record is defined in sec. 207.2(f) of the Commission's Rules of Practice and Procedure (19 CFR 207.2(f)).

² 85 FR 8249, 85 FR 8252, and 85 FR 8247, February 13, 2020.

Background

The Commission, pursuant to section 735(b) of the Act (19 U.S.C. 1673d(b)), instituted these investigations effective February 19, 2019, following receipt of a petition filed with the Commission and Commerce by the Coalition for Acetone Fair Trade, consisting of AdvanSix Inc., Parsippany, New Jersey, Altivia Petrochemicals, LLC, Haverhill, Ohio, and Olin Corporation, Clayton, Missouri. The Commission established a general schedule for the conduct of the final phase of the investigations following notification of preliminary determinations by Commerce that imports of acetone from Singapore and Spain were being sold at LTFV within the meaning of 733(b) of the Act (19 U.S.C. 1673b(b)).³ Notice of the scheduling of the final phase of the Commission's investigations and of a public hearing to be held in connection therewith was given by posting copies of the notice in the Office of the Secretary, U.S. International Trade Commission, Washington, DC, and by publishing the notice in the Federal Register on August 26, 2019 (84 FR 44635). The hearing was held in Washington, DC, on October 21, 2019, and all persons who requested the opportunity were permitted to appear in person or by counsel. The Commission subsequently issued its final affirmative determinations regarding dumped imports from Singapore and Spain on December 5, 2019 (84 FR 67476, December 10, 2019).

³ 84 FR 44635, August 26, 2019.

Following notification of final determinations by Commerce that imports of acetone from Belgium, Korea, and South Africa were being sold in the United States at LTFV,⁴ notice of the supplemental scheduling of the final phase of the Commission's antidumping duty investigations with respect to Belgium, Korea, and South Africa was given by posting copies of the notice in the Office of the Secretary, U.S. International Trade Commission, Washington DC, and by publishing the notice in the Federal Register of February 26, 2020 (85 FR 11102).

⁴ 85 FR 8249, 85 FR 8252, and 85 FR 8247, February 13, 2020.

The Commission made these determinations pursuant to section 735(b) of the Act (19 U.S.C. 1673d(b)). It completed and filed its determinations in these investigations on March 17, 2020. The views of the Commission are contained in USITC Publication 5038 (March 2020), entitled Acetone from Belgium, Korea and South Africa: Investigation Nos. 731-TA-1435-1436, and 1439 (Final).

By order of the Commission.
Issued: March 30, 2020.
Lisa Barton,
Secretary to the Commission.

[FR Doc. 2020-06913 Filed 4-1-20; 8:45 am]

BILLING CODE 7020-02-P